DEPARTMENT OF COMMERCE

International Trade Administration

[A-469-815]

Finished Carbon Steel Flanges From Spain: Final Determination of Sales at Less Than Fair Value

AGENCY: Enforcement and Compliance, International Trade Administration, Department of Commerce.

SUMMARY: The Department of Commerce (the Department) determines that finished carbon steel flanges from Spain are being, or are likely to be, sold in the United States at less than fair value (LTFV). The period of investigation (POI) is April 1, 2015, through March 31, 2016. The final estimated weighted-average dumping margins of sales at LTFV are shown in the “Final Determination” section of this notice.

DATES: Effective April 17, 2017.

FOR FURTHER INFORMATION CONTACT: Mark Flessner or Erin Kearney, AD/CVD Operations, Office VI, Enforcement and Compliance, International Trade Administration, U.S. Department of Commerce, 1401 Constitution Avenue NW., Washington, DC 20230; telephone: (202) 482-6312 or (202) 482-0167, respectively.

SUPPLEMENTARY INFORMATION:

Background

On February 8, 2017, the Department published the preliminary affirmative determination of sales at LTFV in the investigation of finished carbon steel flanges from Spain.¹ We invited interested parties to comment on the Preliminary Determination. We received no comments from interested parties.

¹ See Finished Carbon Steel Flanges from Spain: Preliminary Determination of Sales at Less Than Fair Value, 82 FR 9723 (February 8, 2017) (Preliminary Determination).

Scope of the Investigation

The product covered by this investigation is finished carbon steel flanges from Spain. For a full description of the scope of this investigation, see the “Scope of the Investigation,” in Appendix I of this notice.

Verification

Because the mandatory respondent in this investigation did not provide the information requested, the Department did not conduct verification.

Analysis of Comments Received and Changes Since the Preliminary Determination

As noted above, we received no comments pertaining to the Preliminary Determination. For the purposes of the final determination, the Department has made no changes to the Preliminary Determination.

Use of Adverse Facts Available

As stated in the Preliminary Determination, we found that the mandatory respondent in this investigation, ULMA Forja, S.Coop (ULMA), did not cooperate to the best of its ability and, accordingly, we determined it appropriate to apply facts otherwise available with an adverse inference, in accordance with section 776(a)-(b) of the Tariff Act of 1930, as amended (the Act).² For the purposes of the final determination, the Department has made no changes to the Preliminary Determination.

² See Preliminary Determination at 9724 and the accompanying Memorandum from Gary Taverman, Associate Deputy Assistant Secretary for Antidumping and Countervailing Duty Operations, to Ronald K. Lorentzen, Acting Assistant Secretary for Enforcement and Compliance, entitled, “Decision Memorandum for the Preliminary Determination in the Antidumping Duty Investigation of Finished Carbon Steel Flanges from Spain,” dated January 26, 2017 (Preliminary Decision Memorandum), at 3-7.

All-Others Rate

As discussed in the Preliminary Determination, the Department based the selection of the “all-others” rate on the simple average of the two dumping margins calculated for subject merchandise from Spain provided in the Petition (as recalculated by the Department for initiation purposes),³ in accordance with section 735(c)(5)(B) of the Act, and determined a rate of 18.81 percent. We made no changes to the “all-others” rate for this final determination.⁴

³ See Letter from Weldbend Corporation and Boltex Mfg. Co., L.P. (collectively, petitioners) to the Secretary of the U.S. International Trade Commission and the Secretary of Commerce entitled, “Finished Carbon Steel Flanges from Spain: 2nd Supplemental Questionnaire Response,” dated July 13, 2016, at 2 and Exhibit 1. See also AD Investigation Initiation Checklist: Finished Carbon Steel Flanges from Spain (July 20, 2016) (in which the petition margins were recalculated for purposes of initiation).

⁴ See Preliminary Determination, 82 FR at 9724-9725.

Final Determination

The final estimated weighted-average dumping margins are as follows:

Exporter/manufacturer | Weighted- average dumping margins (percent)
ULMA Forja, S.Coop | 24.43
All Others | 18.81

Continuation of Suspension of Liquidation

In accordance with section 735(c)(1)(B) of the Act, for this final determination, the Department will instruct U.S. Customs and Border Protection (CBP) to continue to suspend liquidation of all entries of finished carbon steel flanges from Spain, as described in Appendix I of this notice, which were entered, or withdrawn from warehouse, for consumption on or after February 8, 2017, the date of publication of the preliminary determination in the Federal Register.

Pursuant to section 735(c)(1)(B)(ii) of the Act, CBP shall require a cash deposit equal to the weighted-average amount by which normal value exceeds U.S. price, as follows: (1) For ULMA, the cash deposit rate will be equal to the estimated weighted-average dumping margin which the Department determined in this final determination; (2) if the exporter is not a firm identified in this investigation but the producer is, then the cash deposit rate will be equal to the estimated weighted-average dumping margin established for the producer of the subject merchandise; (3) the cash deposit rate for all other producers or exporters will be 18.81 percent, as discussed in the “All-Others Rate” section, above.

The instructions suspending liquidation will remain in effect until further notice.

Disclosure

The weighted-average dumping margin assigned to the mandatory respondent in this investigation in the Preliminary Determination was based on adverse facts available and the Department described the method it used to determine the adverse facts available rate in the Preliminary Determination. As we made no changes to this margin since the Preliminary Determination, no additional disclosure of calculations is necessary for this final determination.

International Trade Commission Notification

In accordance with section 735(d) of the Act, we will notify the International Trade Commission (ITC) of the final affirmative determination of sales at LTFV. Because the final determination in this proceeding is affirmative, the ITC will make its final determination as to whether the domestic industry in the United States is materially injured, or threatened with material injury, by reason of imports of finished carbon steel flanges from Spain in accordance with section 735(b)(2) of the Act. If the ITC determines that such injury does not exist, this proceeding will be terminated and all securities posted will be refunded or canceled. If the ITC determines that such injury exists, the Department will issue an antidumping duty order directing CBP to assess, upon further instruction by the Department, antidumping duties on all imports of the subject merchandise entered, or withdrawn from warehouse, for consumption on or after the effective date of the suspension of liquidation.

Notification Regarding Administrative Protective Orders

This notice serves as a reminder to parties subject to an administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

This determination is issued and published in accordance with sections 735(d) and 777(i)(1) of the Act and 19 CFR 351.210(c).

Dated: April 11, 2017.
Ronald K. Lorentzen,
Acting Assistant Secretary for Enforcement and Compliance.

Appendix I

Scope of the Investigation

The scope of this investigation covers finished carbon steel flanges. Finished carbon steel flanges differ from unfinished carbon steel flanges (also known as carbon steel flange forgings) in that they have undergone further processing after forging, including, but not limited to, beveling, bore threading, center or step boring, face machining, taper boring, machining ends or surfaces, drilling bolt holes, and/or de-burring or shot blasting. Any one of these post-forging processes suffices to render the forging into a finished carbon steel flange for purposes of this investigation. However, mere heat treatment of a carbon steel flange forging (without any other further processing after forging) does not render the forging into a finished carbon steel flange for purposes of this investigation.

While these finished carbon steel flanges are generally manufactured to specification ASME B16.5 or ASME B16.47 series A or series B, the scope is not limited to flanges produced under those specifications. All types of finished carbon steel flanges are included in the scope regardless of pipe size (which may or may not be expressed in inches of nominal pipe size), pressure class (usually, but not necessarily, expressed in pounds of pressure, e.g., 150, 300, 400, 600, 900, 1500, 2500, etc.), type of face (e.g., flat face, full face, raised face, etc.), configuration (e.g., weld neck, slip on, socket weld, lap joint, threaded, etc.), wall thickness (usually, but not necessarily, expressed in inches), normalization, or whether or not heat treated. These carbon steel flanges either meet or exceed the requirements of the ASTM A105, ASTM A694, ASTM A181, ASTM A350 and ASTM A707 standards (or comparable foreign specifications). The scope includes any flanges produced to the above-referenced ASTM standards as currently stated or as may be amended. The term “carbon steel” under this scope is steel in which:

(a) Iron predominates, by weight, over each of the other contained elements:

(b) The carbon content is 2 percent or less, by weight; and

(c) none of the elements listed below exceeds the quantity, by weight, as indicated:

(i) 0.87 percent of aluminum;

(ii) 0.0105 percent of boron;

(iii) 10.10 percent of chromium;

(iv) 1.55 percent of columbium;

(v) 3.10 percent of copper;

(vi) 0.38 percent of lead;

(vii) 3.04 percent of manganese;

(viii) 2.05 percent of molybdenum;

(ix) 20.15 percent of nickel;

(x) 1.55 percent of niobium;

(xi) 0.20 percent of nitrogen;

(xii) 0.21 percent of phosphorus;

(xiii) 3.10 percent of silicon;

(xiv) 0.21 percent of sulfur;

(xv) 1.05 percent of titanium;

(xvi) 4.06 percent of tungsten;

(xvii) 0.53 percent of vanadium; or

(xviii) 0.015 percent of zirconium.

Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

[FR Doc. 2017-07680 Filed 4-14-17; 8:45 am]

BILLING CODE 3510-DS-P